FEDERAL COMMUNICATIONS COMMISSION

47 CFR Part 20

[PS Docket No. 07-114; WC Docket No. 05-196; FCC 10-177; DA 10-2267]

Wireless E911 Location Accuracy Requirements; E911 Requirements for IP-Enabled Service Providers

AGENCY: Federal Communications Commission.

ACTION: Proposed rule; extension of comment and reply comment dates.

SUMMARY: The order provides notice that the comment period cycle for the Commission's Further Notice of Proposed Rulemaking (FNPRM) and Notice of Inquiry (NOI) has been extended to provide interested parties a meaningful opportunity to file full and informed comment for a complete record concerning the numerous issues raised in the proceeding.

DATES: Submit comments on or before January 19, 2011. Submit reply comments on or before February 18, 2011.

ADDRESSES: You may submit comments, identified by PS Docket No. 07-114 and WC Docket No. 05-196, by any of the following methods:

• Federal eRulemaking Portal: http://www.regulations.gov. Follow the instructions for submitting comments.

• Federal Communications Commission's Web Site: http://www.fcc.gov/cgb/ecfs/. Follow the instructions for submitting comments on the Commission's Electronic Comment Filing System (ECFS).

• People with Disabilities: Contact the FCC to request reasonable accommodations (accessible format documents, sign language interpreters, CART, etc.) by e-mail: FCC504@fcc.gov or phone: (202) 418-0530 or TTY: (202) 418-0432.

For detailed instructions for submitting comments and additional information on the rulemaking process, see the FPRM and NOI, Section V., Procedural Matters, in this proceeding.

FOR FURTHER INFORMATION CONTACT: Patrick Donovan, Public Safety and Homeland Security Bureau, at (202) 418-2413, Federal Communications Commission, 445 12th Street, SW., Washington, DC 20554; or via the Internet to Patrick.Donovan@fcc.gov.

SUPPLEMENTARY INFORMATION: 1. On September 23, 2010, the Federal Communications Commission adopted an FNPRM and NOI, seeking comment on how to further improve the location capability of 911 and E911 services for existing and new voice communications technologies, including new broadband technologies associated with the deployment of Next Generation 911 (NG911) networks. The E911 Location Accuracy FNPRM and NOI was published in the Federal Register on November 2, 2010, 75 FR 67321. Thus, comments submitted in response to the E911 Location Accuracy FNPRM and NOI must be filed on or before January 3, 2011; and reply comments must be filed on or before January 31, 2011.

2. On November 22, 2010, the Association of Public-Safety Communications Officials—International (APCO), the National Emergency Number Association (NENA), the National Association of State 911 Administrators (NASNA), CTIA—The Wireless Association (CTIA), and the Telecommunications Industry Association (TIA) (collectively, the “Parties”) jointly filed a request to extend the comment and reply comment deadlines in this proceeding until January 19, 2011, and February 18, 2011, respectively. The parties argue that “[a] short-term extension is in the public interest to allow interested parties to meaningfully address the issues raised in this proceeding.”

3. We grant the parties' request for extension of time to file comments and reply comments. Generally, it is the policy of the Commission that extensions of time are not routinely granted. Nevertheless, the Commission has previously found that an extension of time is warranted when such an extension is necessary to ensure that the Commission receives full and informed responses and that affected parties have a meaningful opportunity to develop a complete record for the Commission's consideration. In light of the multitude of issues that the Commission seeks comment upon in the E911 Location Accuracy FNPRM and NOI, we find that an extension is warranted to ensure that all interested parties have the time necessary to prepare full and informed comments and reply comments.

4. Additionally, we concur with the Parties that granting an extension of time would permit various Communications Security, Reliability and Interoperability Council (CSRIC) working groups to develop and finalize recommendations relating to E911 and NG911. As the Parties noted, “[m]any of those working group members plan to file comments and/or reply comments in this proceeding.” Indeed, in the E911 Location Accuracy FNPRM and NOI, the Commission highlighted the significance of CSRIC's contribution to this proceeding. Under these circumstances, the Bureau finds that the proposed extension of time will provide CSRIC working group members with the time to develop thorough recommendations for the CSRIC and meaningful comments in this proceeding.

5. Accordingly, It is ordered that, pursuant to sections 4(i), 4(j), and 5(c) of the Communications Act, 47 U.S.C. 154(i), 154(j), 155(c), and sections 0.191, 0.392, and 1.46 of the Commission's rules, 47 CFR 0.191, 0.392, 1.46, the Joint Request for Extension of Comment and Reply Comment Deadlines filed by the Association of Public-Safety Communications Officials—International, the National Emergency Number Association, the National Association of State 911 Administrators, CTIA—The Wireless Association, and the Telecommunications Industry Association, Is Granted.

Federal Communications Commission.
Thomas J. Beers,
Chief, Policy Division, Public Safety and Homeland Security Bureau.

[FR Doc. 2011-121 Filed 1-6-11; 8:45 am]

BILLING CODE 6712-01-P